COMMITTEE FOR THE IMPLEMENTATION OF TEXTILE AGREEMENTS

Denial of Participation in the Special Access Program

February 20, 2003.

AGENCY: Committee for the Implementation of Textile Agreements (CITA).

ACTION: Issuing a directive to the Commissioner of Customs suspending participation in the Special Access Program.

EFFECTIVE DATE: March 1, 2003.

FOR FURTHER INFORMATION CONTACT: Richard Stetson, International Trade Specialist, Office of Textiles and Apparel, U.S. Department of Commerce, (202) 482-3400.

SUPPLEMENTARY INFORMATION:

Authority: Authority: Section 204 of the Agricultural Act of 1956, as amended (7 U.S.C. 1854); Executive Order 11651 of March 3, 1972, as amended.

The Committee for the Implementation of Textile Agreements (CITA) has determined that House of Perfection, d.b.a. Stepping Stones (House of Perfection) has violated the requirements for participation in the Special Access Program and has suspended House of Perfection from participation in the Program for the period from March 1, 2003 until December 31, 2004.

Through the letter to the Commissioner of Customs published below, CITA directs the Commissioner to prohibit entry of products under the Special Access Program by, or on behalf of, House of Perfection during the period from March 1, 2003 until December 31, 2004.

Requirements for participation in the Special Access Program are available in Federal Register notice 63 FR 16474, published on April 3, 1998.

D. Michael Hutchinson,
Acting Chairman, Committee for the Implementation of Textile Agreements.

Committee for the Implementation of Textile Agreements

February 20, 2003.

Commissioner of Customs,

Department of the Treasury, Washington, DC 20229.

Dear Commissioner: The purpose of this directive is to notify you that the Committee for the Implementation of Textile Agreements has suspended House of Perfection, d.b.a. Stepping Stones (House of Perfection) from participation in the Special Access Program for the period from March 1, 2003 until December 31, 2004. You are therefore directed to prohibit entry of products under the Special Access Program by or on behalf of House of Perfection during the period March 1, 2003 until December 31, 2004.

Sincerely,

D. Michael Hutchinson,

Acting Chairman, Committee for the Implementation of Textile Agreements.

[FR Doc.03-4402 Filed 2-24-03; 8:45 am]

BILLING CODE 3510-DR-S